ENVIRONMENTAL PROTECTION AGENCY

40 CFR Part 52

[Region 2 Docket No. NJ49-235 FRL-7127-8]

Approval and Promulgation of Implementation Plans; New Jersey; Motor Vehicle Inspection and Maintenance Program

AGENCY: Environmental Protection Agency (EPA).

ACTION: Final rule.

SUMMARY: EPA is approving a State Implementation Plan (SIP) revision submitted by New Jersey that consists of two elements necessary for EPA to grant final full approval of New Jersey's enhanced motor vehicle inspection and maintenance (I/M) program. The first element provides the State's final submittal for compliance with the National Highway Systems Designation Act (NHSDA), which allowed states to claim additional credit for their decentralized inspection and maintenance programs, provided they could validate that credit claim with actual program implementation data. The second element revises New Jersey's performance standard modeling to reflect the State's enhanced I/M program as it is currently implemented. This element satisfies a condition of EPA's May 14, 1997 conditional interim approval of New Jersey's enhanced I/M program SIP. The intended effect of this action is to approve the two evaluations of the enhanced I/M program, in addition to prior minor revisions to the enhanced I/M SIP, and to grant final full approval of the program. The enhanced I/M program will result in emission reductions that will help achieve attainment of the one-hour ozone standard and carbon monoxide standard.

EFFECTIVE DATE: This rule will be effective February 21, 2002.

ADDRESSES: Copies of the state submittal(s) are available at the following addresses for inspection during normal business hours: Environmental Protection Agency, Region 2 Office, Air Programs Branch, 290 Broadway, 25th Floor, New York, New York 10007-1866. Environmental Protection Agency, Air and Radiation Docket and Information Center, Air Docket (6102), 401 M Street, SW., Washington, DC 20460. New Jersey Department of Environmental Protection, Bureau of Air Quality Planning, 401 East State Street, CN027, Trenton, New Jersey 08625.

FOR FURTHER INFORMATION CONTACT: Kenneth M. Champagne, Air Programs Branch, 290 Broadway, 25th Floor, New York, NY 10007-1866, (212) 637-4249.

SUPPLEMENTARY INFORMATION:

Background

On September 11, 2001 (66 FR 47130), EPA published a notice of proposed rulemaking regarding a State Implementation Plan (SIP) revision submitted by the State of New Jersey. The notice proposed to approve revisions to New Jersey's enhanced I/M SIP, and to grant final full approval of the program. The SIP revision was proposed under a procedure called parallel processing, whereby EPA proposes a rulemaking action concurrently with a state's procedures for amending its regulations. The proposed SIP revision was initially submitted to EPA on May 4, 2001, and the final SIP revision was formally submitted on August 20, 2001. A detailed description of New Jersey's submittals and EPA's rationale for the proposed action were presented in the September 11, 2001 proposal, referenced above, and will not be restated here.

Public Comments/Response to Comments

On October 16, 2001 (66 FR 52560), EPA published a notice extending the comment period for the September 11, 2001 proposal for an additional thirty days. This action was necessary due to the tragic events of September 11, 2001 and the resulting temporary closure of the Region 2 office of the EPA in New York City and the disruption of mail delivery and telephone service. It should be noted that EPA did not receive any comments associated with the proposed approval of New Jersey's enhanced I/M program.

Conclusion

EPA is taking final action to approve New Jersey's August 20, 2001 SIP revision, which contained the remaining elements necessary to grant final full approval of the State's enhanced I/M program. EPA's authority to approve New Jersey's enhanced I/M program is set forth at sections 110 and 182 of the Clean Air Act. In accordance with the parallel processing procedures, EPA has evaluated New Jersey's final SIP revision submitted on August 20, 2001, and finds that no substantial changes were made from the proposed SIP revision submitted on May 4, 2001. EPA agrees with New Jersey's responses to those comments it received which are related to the enhanced I/M program as an element of the State's SIP.

Based on the analyses included in New Jersey's August 20, 2001 submittal, EPA concludes that the State's NHSDA evaluation validates New Jersey's 80% decentralized test and repair effectiveness rate credit claim. New Jersey's evaluation uses actual program implementation data to show that the decentralized portion of the network is at least 80% as effective as its centralized program, as the State previously claimed. EPA also concludes, based on New Jersey's performance standard modeling which reflects the State's enhanced I/M program as it is currently implemented, that the State's program meets the low enhanced performance standard. Based on these conclusions, EPA is approving New Jersey's August 20, 2001 SIP revision.

EPA is also approving the final and complete test equipment specifications, test procedures and emission standards that New Jersey submitted to satisfy conditions of EPA's May 14, 1997 interim approval. New Jersey made a revision to its SIP on January 31, 1997 which contained those required elements.

EPA is finding that New Jersey's December 14, 1998, SIP revision submittal adequately remedies the eight de minimus deficiencies previously identified.

Finally, as a consequence of EPA's conclusions regarding the approvability of the elements summarized above, EPA is changing the conditional interim status of the approval of New Jersey's enhanced I/M program to final approval.

Administrative Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by March 25, 2002. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Hydrocarbons, Incorporation by reference, Intergovernmental relations, Nitrogen dioxide, Ozone, Reporting and recordkeeping requirements, Volatile organic compounds.

Dated: December 21, 2001.
William J. Muszynski,
Deputy Regional Administrator, Region 2.

Part 52, chapter I, title 40 of the Code of Federal Regulations is amended as follows:

PART 52—[AMENDED]

1. The authority citation for part 52 continues to read as follows:

Authority: 42 U.S.C. 7401 et seq.

Subpart FF—New Jersey

2. Section 52.1570 is amended by adding new paragraph (c)( 71) to read as follows:

§ 52.1570 Identification of plan.

* * * * *

(c) * * *

(71) Revisions to the New Jersey State Implementation Plan (SIP) concerning the Enhanced Inspection and Maintenance Program, submitted on August 20, 2001 by the New Jersey State Department of Environmental Protection (NJDEP).

(i) Incorporation by reference:

(A) Amendments to Title 7, Chapter 27 of the New Jersey Administrative Code (NJAC) Subchapter 15, “Control and Prohibition of Air Pollution From Gasoline-Fueled Motor Vehicles,” effective November 15, 1999.

(B) Amendments to Title 7, Chapter 27B of the NJAC Subchapter 4, “Air Test Method 4: Testing Procedures for Motor Vehicles,” effective November 15, 1999.

(C) Amendments to Title 13, Chapter 20 of the NJAC Subchapter 28, “Inspection of New Motor Vehicles” (Sections: 28.3, 28.4, 28.6), effective December 6, 1999.

(D) Title 13, Chapter 20 of the NJAC: Subchapter 7, “Vehicle Inspection” (Sections: 7.1, 7.2, 7.3, 7.4, 7.5, 7.6); Subchapter 24, “Motorcycles” (Section: 24.20); Subchapter 26, “Compliance With Diesel Emission Standards and Equipment, Periodic Inspection Program for Diesel Emissions, and Self-Inspection of Certain Classes of Motor Vehicles” (Section: 26.16); Subchapter 29, “Mobile Inspection Unit” (Sections: 29.1, 29.2, 29.3); Subchapter 32, “Inspection Standards and Test Procedures To Be Used By Official Inspection Facilities”; Subchapter 33, “Inspection Standards and Test Procedures To Be Used By Licensed Private Inspection Facilities”; Subchapter 43, “Enhanced Motor Vehicle Inspection and Maintenance Program”; Subchapter 44, “Private Inspection Facility Licensing”; and Subchapter 45, “Motor Vehicle Emission Repair Facility Registration”, effective December 6, 1999.

(E) Title 13, Chapter 21 Subchapter 5, “Registrations” (Section: 5.12) and Subchapter 15, “New Jersey Licensed Motor Vehicle Dealers” (Section: 15.7), effective December 6, 1999.

* * * * *

3. In § 52.1605 the table is amended:

a. Revising under Title 7, Chapter 27, the entry for Subchapter 15.

b. Revising under Title 7, Chapter 27B, the entry for Subchapter 4.

c. Revising under Title 13, Chapter 20, the entry for Subchapter 28.

d. Adding new entries for Subchapters 7, 24, 26, 29, 32, 33, 43, 44, and 45 in numerical order under Title 13, Chapter 20.

e. Adding new Chapter 21 under Title 13 and new entries for Subchapters 5 and 15 in numerical order under Chapter 21.

The revisions and additions read as follows:

§ 52.1605 EPA—approved New Jersey regulations.

State regulation | State effective date | EPA approved date | Comments
* * * * * * *
Title 7, Chapter 27
* * * * * * *
Subchapter 15, “Control and Prohibition of Air Pollution From Gasoline-Fueled Motor Vehicles.” | Nov. 15, 1999 | January 22, 2002, [Insert FR page citation]
* * * * * * *
Chapter 27B
* * * * * * *
Subchapter 4, “Air Test Method 4: Testing Procedures for Motor Vehicles.” | Nov. 15, 1999 | January 22, 2002, [Insert FR page citation]
* * * * * * *
Title 13, Chapter 20
Subchapter 7, “Vehicle Inspection.” | Dec. 6, 1999 | January 22, 2002 [Insert FR page citation]
Sections: 7.1, 7.2, 7.3, 7.4, 7.5, 7.6.
Subchapter 24, “Motorcycles.” | Dec. 6, 1999 | January 22, 2002 [Insert FR page citation]
Section: 24.20.
Subchapter 26, “Compliance With Diesel Emission Standards and Equipment, Periodic Inspection Program for Diesel Emissions, and Self-Inspection of Certain Classes of Motor Vehicles.” | Dec. 6, 1999 | January 22, 2002 [Insert FR page citation]
Section: 26.16.
Subchapter 28, “Inspection of New Motor Vehicles.” | Dec. 6, 1999 | January 22, 2002 [Insert FR page citation]
Sections: 28.3, 28.4, 28.6.
Subchapter 29, “Mobile Inspection Unit.” | Dec. 6, 1999 | January 22, 2002 [Insert FR page citation]
Sections: 29.1, 29.2, 29.3.
Subchapter 32, “Inspection Standards and Test Procedures To Be Used By Official Inspection Facilities.” | Dec. 6, 1999 | January 22, 2002 [Insert FR page citation]
Subchapter 33, “Inspection Standards and Test Procedures To Be Used By Licensed Private Inspection Facilities.” | Dec. 6, 1999 | January 22, 2002 [Insert FR page citation]
Subchapter 43, “Enhanced Motor Vehicle Inspection and Maintenance Program.” | Dec. 6, 1999 | January 22, 2002 [Insert FR page citation]
Subchapter 44, “Private Inspection Facility Licensing.” | Dec. 6, 1999 | January 22, 2002 [Insert FR page citation]
Subchapter 45, “Motor Vehicle Emission Repair Facility Registration.” | Dec. 6, 1999 | January 22, 2002 [Insert FR page citation]
Chapter 21
Subchapter 5, “Registrations.” | Dec. 6, 1999 | January 22, 2002 [Insert FR page citation]
Section: 5.12.
Subchapter 15, “New Jersey Licensed Motor Vehicle Dealers.” | Dec. 6, 1999 | January 22, 2002 [Insert FR page citation]
Section: 15.7.
* * * * * * *

[FR Doc. 02-1345 Filed 1-18-02; 8:45 am]

BILLING CODE 6560-50-P